DEPARTMENT OF COMMERCE

National Oceanic and Atmospheric Administration

50 CFR Part 648

[Docket No. 070709299-7300-01]

RIN 0648-AV75

Fisheries of the Northeastern United States; Northeast Multispecies Fishery; Temporary Haddock Size Limit Extension

AGENCY: National Marine Fisheries Service (NMFS), National Oceanic and Atmospheric Administration (NOAA), Commerce.

ACTION: Temporary rule; emergency action extended, and request for comments.

SUMMARY: NMFS continues the haddock minimum size implemented by an August 10, 2007, emergency final rule that is set to expire on February 6, 2008. Specifically, this temporary rule continues the commercial minimum haddock size of 18 inches (45.7 cm) that was reduced from the previous minimum size of 19 inches (48.3 cm). This action is taken pursuant to NOAA's authority to issue emergency measures under the Magnuson-Stevens Fishery Conservation and Management Act (Magnuson-Stevens Act). The intent of this extension is to continue measures intended to reduce regulatory discards of Georges Bank (GB) and Gulf of Maine (GOM) haddock to prevent excessive waste and comply with the goals of reducing discards and maintaining the rebuilding programs of the Northeast (NE) Multispecies Fishery Management Plan (FMP), while helping to achieve optimum yield at the same time. This action is intended to reduce discarding and maintain consistency with the FMP and the Magnuson-Stevens Act.

DATES: The expiration date of the emergency rule published August 10, 2007 (72 FR 44979), is extended to August 10, 2008. NMFS will accept comments through December 14, 2007.

ADDRESSES: You may submit comments, identified by 0648-AV75, by any one of the following methods:

• Electronic Submissions: Submit all electronic public comments via the Federal e-rulemaking Portal.

• Mail: Paper, disk, or CD-ROM comments should be sent to Patricia A. Kurkul, Regional Administrator, National Marine Fisheries Service, One Blackburn Drive, Gloucester, MA 01930. Mark the outside of the envelope, “Comments on the Haddock Size Limit Extension.”

• Fax: (978) 281-9135.

Instructions: All comments received are part of the public record and will generally be posted to http://www.regulations.gov without change. All Personal Identifying Information (for example, name, address, etc.) voluntarily submitted by the commenter may be publically accessible. Do not submit Confidential Business Information or otherwise sensitive or protected information.

NMFS will accept anonymous comments. Attachments to electronic comments will be accepted in Microsoft Word, Excel, WordPerfect, or Adobe PDF formats only.

FOR FURTHER INFORMATION CONTACT: Thomas A. Warren, Fishery Policy Analyst, (978) 281-9347, fax (978) 281-9135.

SUPPLEMENTARY INFORMATION:

Background

This temporary final rule extends the emergency commercial minimum haddock size of 18 inches (45 cm), authorized by section 305(c) of the Magnuson-Stevens Act, in order to reduce excessive discarding of GB and GOM haddock. The historical commercial haddock minimum size of 19 inches (48.3 cm) was reduced by temporary emergency action to 18 inches (45 cm) on August 10, 2007 (72 FR 44979). That Secretarial action was taken in response to the New England Fishery Management Council (Council) vote on June 21, 2007, to recommend that the Secretary of Commerce take action to lower the minimum size of haddock to 17 inches (43.2 cm) for vessels fishing on GB. A written request from the Council to NMFS for such action was dated June 25, 2007.

Available information from the Council and data from observed trips to the Eastern U.S./Canada Area indicated that there were large amounts of discarding of haddock occurring because only a small fraction of the haddock from an exceptionally large year class being caught on GB has reached the minimum size of 19 inches (48.3 cm). Observer data showed a discard-to-kept ratio of over 1 lb (0.45 kg) of haddock discarded to every pound of haddock landed. Cumulative haddock discards from the Eastern U.S./Canada Area from May 1, 2007, through October 24, 2007, were estimated at approximately 700,000 lb (318 mt).

The reason for these large amounts of discards is that the very large 2003 year class of haddock, which is the largest since 1963, is growing more slowly than previously anticipated. Recent survey data indicate an average GB haddock size of 16.6 inches (42.2 cm) for fish in the 2003 year class. The average size of the fish in the 2003 year class is anticipated to be 19 inches (48.3 cm) by the summer of 2008, which would make them legal to retain under the existing regulations, so the current discard situation will resolve itself over the long term. However, in the short term, in order to reduce the large amount of discards and associated discard mortality that has been occurring in the haddock fishery, and enable such fish to be landed, a reduction in the haddock minimum size to18 inches (45.7 cm) was warranted. NMFS's initial emergency action to make this change was implemented on August 10, 2007, and differed from the Council request in two aspects. Additional background for that action, including why the action differed from the Council request, an explanation of the scope of the measure (only commercial vessels, and covering the GOM and GB), and the evaluation of the emergency action with respect to NMFS policy guidelines for the use of emergency rules are contained in the preamble of the August 10, 2007, rule and are not repeated here.

As stated above, the emergency rule is scheduled to expire February 10, 2008. Because the majority of the very large 2003 year class will not reach 19 inches (48.3 cm) until the summer of 2008, NMFS extends the emergency rule through this action in order to continue to reduce the likelihood of excessive discarding.

During the initial emergency action, NMFS has monitored the haddock fishery closely in order to determine whether the reduction in haddock size has resulted in changes in fishing behavior or substantive increases in fishing effort. Monitoring results showed evidence of a decline in the discard rate and no increase in fishing effort. Pursuant to section 305(c)(3)(B) of the Magnuson-Stevens Act, management measures implemented by the August 10, 2007, emergency final rule may be extended for an additional period of 186 days, provided the public has had the opportunity to comment on the emergency regulations. NMFS will accept public comment after publication of this rule, on the effectiveness of the emergency action to date, and the extension of the emergency action implemented by this action.

Extension of the emergency rule and continuation of the lower haddock minimum size for a second 186-day period will reduce waste (discard mortality) in the fishery and may increase opportunities for the fishery to achieve optimum yield (OY). A collateral benefit of this action will be prevention of a significant direct economic loss by allowing the landing and sale of fish that would be discarded at sea if the minimum size limit were kept at 19-inches (48.3-cm). To revert to a 19-inch (48.3-cm) minimum size at the expiration of the August 10, 2007, emergency action would likely result in an increased discard rate, the associated mortality of such discarding, the irretrievable loss of significant economic revenues from the discarded fish, and the further diminishing of the industry's ability to achieve OY. These consequences are inconsistent with National Standards 1, 7, and 9.

The benefits to be gained through the continuation of the reduction of the haddock minimum size limit (e.g., reduced discarding and enhanced opportunities to achieve OY) justify the extension of this emergency action.

This action is not expected to interfere with any conservation objective of the FMP. Although GB and GOM haddock are still considered overfished, overfishing is not occurring. In recent years, less than 50 percent of the annual target TAC for GB haddock has been harvested. Allowing fish to be landed that would otherwise be discarded dead is not expected to increase fishing mortality or delay the rebuilding of the GB haddock stock. An increase in fishing effort is not expected due to the fact that, at current levels of fishing effort, trips under an 18-inch (45-cm) minimum haddock size may be more profitable because the same amount of fishing effort will yield more legal catch that can be landed and sold. A shift to target smaller fish is not likely because haddock in the 18 to19-inch (45 to 48.3-cm) range are caught together, and there is limited selectivity of the fishing gear. Therefore, there appears to be, in the short term, no incentive or effective way to target 18-inch (45.7-cm) haddock. NMFS will continue to monitor this fishery closely in order to determine whether this action results in significant changes in fishing behavior or substantive increases in fishing effort. If necessary, inseason implementation of management measures through existing Regional Administrator authority could be taken to control catch. The Northeast Fisheries Science Center estimates that the average total length of GB haddock will not be 19 inches (48.3 cm) or above until the summer of 2008.

Classification

NMFS has determined that the emergency management measure extended by this temporary rule is necessary to respond to an emergency situation in the NE multispecies fishery and is consistent with the Magnuson-Stevens Act and other applicable law.

This emergency rule has been determined to be not significant for purposes of E.O. 12866.

This rule is exempt from the procedures of the Regulatory Flexibility Act to prepare a regulatory flexibility analysis because the rule is issued without opportunity for prior public comment.

This emergency action meets the Categorical Exclusion requirements of NOAA Administrative Order 216-6, and therefore no analysis was prepared pursuant to the National Environmental Policy Act.

Authority: 16 U.S.C. 1801 et seq.

Dated: November 7, 2007.
Samuel D. Rauch III,
Deputy Assistant Administrator for Regulatory Programs, National Marine Fisheries Service.

[FR Doc. E7-22240 Filed 11-13-07; 8:45 am]

BILLING CODE 3510-22-S